DEPARTMENT OF TRANSPORTATION

Pipeline and Hazardous Materials Safety Administration

[Docket No. PHMSA-2016-0087]

Pipeline Safety: Request for Special Permit; City of Bangor, Maine

AGENCY: Pipeline and Hazardous Materials Safety Administration (PHMSA); DOT.

ACTION: Notice.

SUMMARY: PHMSA is publishing this notice to seek public comment on a request for special permit, seeking relief from compliance with certain requirements in the Federal pipeline safety regulations. At the conclusion of the 30-day comment period, PHMSA will review the comments received from this notice as part of its evaluation to grant or deny the special permit request.

DATES: Submit any comments regarding this special permit request by May 8, 2017.

ADDRESSES: Comments should reference the docket number for the specific special permit request and may be submitted in the following ways:

• E-Gov Web site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: Docket Management System: U.S. Department of Transportation, Docket Operations, M-30, West Building Ground Floor, Room W12-140, 1200 New Jersey Avenue SE., Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: There is a privacy statement published on http://www.Reglations.gov. Comments, including any personal information provided, are posted without changes or edits to http://www.Regulations.gov.

FOR FURTHER INFORMATION CONTACT:

General: Ms. Kay McIver by telephone at 202-366-0113, or email at kay.mciver@dot.gov.

Technical: Mr. Max Kieba by telephone at 202-493-0595, or email at max.kieba@dot.gov.

SUPPLEMENTARY INFORMATION:

PHMSA has received a special permit request from the City of Bangor, Maine to deviate from the pipeline safety regulations to pressure test a single segment of its pipeline with Jet-A fuel (kerosene), rather than water as the medium, during the performance of a Subpart E pressure test. A Draft Environmental Assessment (DEA) accompanies the special permit request. The DEA is available at http://www.Regulations.gov, in Docket Number, PHMSA-2016-0087. We invite interested persons to participate by reviewing the special permit request and DEA at http://www.Regulations.gov, and by submitting written comments, data, or other views. Please include any comments on potential safety and environmental impacts that may result if the special permit is granted.

Before issuing a decision on the special permit request, PHMSA will evaluate all comments received on or before the comment closing date. Comments received after the closing date will be evaluated if it is possible to do so without incurring additional expense or delay. PHMSA will consider each relevant comment we receive in making our decision to grant or deny a request.

The City of Bangor operates its less than one-mile-long pipeline from terminal tankage to the Bangor International Airport. The pipeline is located in an industrial area of the City, offsite of the Bangor International Airport in Penobscot County, Maine.

The City requests this special permit for safety concerns of private, commercial and military aircraft that refuel at the Bangor International Airport. Due to the stringent quality control requirements for fuel established for military and commercial aircraft, any contaminants introduced during a test with water, including the water itself, could endanger commercial and private aircraft, as well as the many military missions originating from the airport.

Testing the pipeline with water would force the City to cease fueling operations for an estimated 48 to72 hours. The City and the Maine Air Natural Guard operate under a Federal Joint Use Agreement, which stipulates that the airport must remain open and available twenty four hours a day, seven days a week, to support strategic military missions. This is the only pipeline that supplies fuel to the airport. Shutting down the airport would put the City in breach of contract with the military.

The maximum allowable operating pressure of this pipeline ranges from 150 to 182 psi, and no leaks have been found in the past 11 years of pressure testing.

Issued in Washington, DC on March 31, 2017, under authority delegated in 49 CFR 1.97.
Alan K. Mayberry,
Associate Administrator for Pipeline Safety.

[FR Doc. 2017-06804 Filed 4-5-17; 8:45 am]

BILLING CODE 4910-60-P